SECURITIES AND EXCHANGE COMMISSION

[Release No. 34-84683; File No. SR-CboeEDGA-2018-019]

Self-Regulatory Organizations; Cboe EDGA Exchange, Inc.; Notice of Filing and Immediate Effectiveness of a Proposed Rule Change Relating To Eliminate the Liquidity Swap Component of the Discretionary Range Instruction

November 29, 2018.

Correction

In notice document 2018-26399 beginning on page 62933 in the issue of Thursday, December 6, 2018, make the following correction:

On page 62936, in the second column, the last line of the first full paragraph “December 26, 2018” should read “December 27, 2018”.

[FR Doc. C1-2018-26399 Filed 12-26-18; 8:45 am]

BILLING CODE 1301-00-D